ENVIRONMENTAL PROTECTION AGENCY

40 CFR Part 52

[PA-4096a; FRL-6577-9 ]

Approval and Promulgation of Air Quality Implementation Plans; Pennsylvania; Approval of VOC and NOX RACT Determinations for Individual Sources

AGENCY: Environmental Protection Agency (EPA).

ACTION: Direct final rule.

SUMMARY: EPA is taking direct final action on revisions to the Commonwealth of Pennsylvania's State Implementation Plan (SIP). The revisions establish and require reasonably available control technology (RACT) for 56 major sources of volatile organic compounds (VOC) and nitrogen oxides ( NOX). EPA is approving these revisions to establish RACT requirements in the SIP in accordance with the Clean Air Act.

DATES: This rule is effective on February 13, 2001 without further notice, unless EPA receives adverse written comment by January 16, 2001. If EPA receives such comments, it will publish a timely withdrawal of the direct final rule in the Federal Register and inform the public that the rule will not take effect.

ADDRESSES: Written comments should be mailed to Makeba Morris, Chief, Permits and Technical Assessment Branch, Air Protection Division, Mailcode 3AP11, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; the Air and Radiation Docket and Information Center, U.S. Environmental Protection Agency, 401 M Street, SW, Washington, DC 20460; and the Pennsylvania Department of Environmental Protection, Bureau of Air Quality Control, P.O. Box 8468, 400 Market Street, Harrisburg, Pennsylvania 17105.

FOR FURTHER INFORMATION CONTACT: Ray Chalmers at (215) 814-2061 for information on sources #1 through #17, Melik Spain at (215) 814-2299 for information on sources #18 through #50, or Helene Drago at (215) 814-5796 for information on sources #51 through 56.

SUPPLEMENTARY INFORMATION:

I. Background

On September 20, 1995, December 8, 1995, January 10, 1996, March 21, 1996, April 16, 1996, May 2, 1996, June 10, 1996, September 13, 1996, January 21, 1997, July 2, 1997, November 4, 1997, December 31, 1997, March 24, 1998, April 20, 1998, May 29, 1998, July 24, 1998, December 7, 1998, February 2, 1999, March 3, 1999, April 9, 1999, and April 20, 1999, the Commonwealth of Pennsylvania (the Commonwealth) submitted formal revisions to its SIP to establish RACT for major sources of VOCs and NOX. EPA is approving the Commonwealth's RACT submittals for 56 of these sources in this rulemaking action. EPA will address the Commonwealth's submittals for other sources in later rulemaking actions. The Commonwealth's submittals consist of plan approvals, operating permits, and/or compliance permits which contain the RACT requirements for each source. In accordance with Pennsylvania's SIP revision request, EPA is approving only the RACT related requirements contained in these plan approvals, operating permits, and/or compliance permits.

Pursuant to sections 182(b)(2) and 182(f) of the Clean Air Act (CAA), Pennsylvania is required to implement RACT for all major VOC and NOX sources. The major source size is determined by its location, the classification of that area and whether it is located in the ozone transport region (OTR), which is established by the CAA. The Pennsylvania portion of the Philadelphia-Wilmington-Trenton ozone nonattainment area (the Philadelphia area) consists of Bucks, Chester, Delaware, Montgomery, and Philadelphia Counties and is classified as severe. Under section 184 of the CAA, at a minimum, moderate ozone nonattainment area requirements (including RACT as specified in sections 182(b)(2) and 182(f)) apply throughout the OTR. The entire Commonwealth of Pennsylvania is in the OTR. Therefore, RACT is applicable statewide in Pennsylvania.

II. Summary of the SIP Revision

The details of the RACT requirements for each source are discussed in the technical support documents (TSDs) found in the docket for this rulemaking action and will not be reiterated in this document. Briefly, EPA is approving revisions to the Pennsylvania SIP establishing and requiring VOC and/or NOX RACT for 56 major sources. The RACT determinations and requirements are included in plan approvals, operating permits and/or compliance permits. Several of the plan approvals, operating permits, and/or compliance permits also contain provisions which are not relevant to the requirements for RACT. These provisions are not part of Pennsylvania's SIP revision requests to EPA.

RACT Determinations

The following table identifies the individual plan approvals, operating permits and/or compliance permits EPA is approving. The specific emission limitations and other RACT requirements for these sources are summarized in the accompanying TSDs, which are available upon further request from the EPA Region III office listed in the ADDRESSES section of this document.

Pennsylvania—VOC and NOX RACT Determinations for Individual Sources
Source | County | Plan approval (PA #) Operating permit (OP #) Compliance permit (CP #) (date of issuance) | Source type | Major source pollutant
1. Boeing Company, Defense and Space Group, Helicopters Division | Delaware | CP-23-0009 | Helicopter Manufacturing | VOC/NOX
2. Delaware County Regional Water Quality Control Authority | Delaware | OP-23-0032 | Wastewater Treatment Plant | VOC/NOX
3. Delbar Products | Bucks | OP-09-0025 | Truck Mirror Manufacturer | VOC
4. Department of Public Welfare—Norristown State Hospital | Montgomery | OP-46-0060 | Hospital | NOX
5. Dopaco, Inc. | Chester | CP-15-0029 | Printer | VOC
6. Garlock, Inc. | Bucks | CP-09-0035 PA-09-0035 | Thin Film and Tape Manufacturer | VOC
7. Interstate Brands Corp. | Philadelphia | PLID: 5811 | Bakery | VOC/NOX
8. J.B. Slevin, Inc. | Delaware | OP-23-0013 | Printer | VOC
9. Laclede Steel Company | Bucks | OP-09-0023 | Steel Products Manufacturer | VOC/NOX
10. LNP Engineering Plastics | Chester | OP-15-0035 | Polymer Pellet Manufacturer | VOC
11. Lukens Steel Company | Montgomery | OP-15-0010 | Steel Plate Producer | VOC/NOX
12. Nabisco, Inc. | Philadelphia | 15-3201 | Bakery | VOC/NOX
13. PECO—Croydan Station | Bucks | OP-09-0016a | Turbines | VOC/NOX
14. PECO—Limerick Station | Montgomery | OP-46-0038 | Boilers | VOC/NOX
15. PECO—Fairless | Bucks | OP-09-0066 | Boilers | VOC/NOX
16. PECO—West Conshohocken | Montgomery | OP-46-0045A | Turbine | NOX
17. PENELEC—Front Street Station | Erie | 25-0041 | Boilers | NOX
18. American Inks & Coating Corp. | Chester | 15-0026A | Inorganic Pigment Manufacturer | VOC
19. Avery Denison Corp. | Bucks | 09-001A | Surface Coating | VOC/NOX
20. Cabot Performance Materials | Berks/Montgomery | 46-0037 | Chemical Manufacturer | VOC/NOX
21. Cleveland Steel Container | Bucks | 09-0022 | Steel Products Manufacturer | VOC
22. CMS Gilbreth Packaging Systems | Bucks | 09-0036 | Graphic Arts | VOC
23. CMS Gilbreth Packaging Systems | Bucks | 09-0037 | Graphic Arts | VOC
24. Congoleum Corporation | Delaware | 23-0021 | Graphic Arts | VOC
25. Epsilon Products Corporation | Delaware | 23-0012 | Synthetic Materials | VOC
26. Foamex International Inc. | Delaware | 23-006A | Synthetic Materials | VOC/NOX
27. Forms; Spectra Graphics | Montgomery | 46-0023 | Graphic Arts | VOC
28. Global Packaging, Inc. | Montgomery | 46-0026 | Graphic Arts | VOC
29. Jefferson Smurfit Corp. | Montgomery | 46-0041 | Graphic Arts | VOC
30. Jefferson Smurfit Corp. | Montgomery | 46-0062 | Graphic Arts | VOC
31. Lonza Inc. | Montgomery | 46-0025 | Chemical Manufacturer | VOC/NOX
32. Markel Corp. | Montgomery | 46-0081 | Synthetic Materials | VOC
33. McCorquodale Security Cards, Inc. | Chester | 15-0037 | Graphic Arts | VOC
34. Mike-Rich, Inc. | Bucks | 09-0021 | Graphic Arts | VOC
35. Minnesota Mining and Manufacturing | Bucks | CP 09-0005 | Boilers and Process Sources | VOC/NOX
36. MM Biogas Power LLC | Montgomery | 46-0067 | Low Emission Combustion | NOX
37. Norwood Industries | Chester | 15-0014A | Surface Coating | VOC/NOX
38. NVF Company | Chester | 15-0030 | Synthetic Materials | VOC/NOX
39. Occidental Chemical Corp. | Montgomery | 46-0015 | Synthetic Materials | VOC/NOX
40. Philadelphia Newspaper, Inc. | Montgomery | 46-0012 | Graphic Arts | VOC
41. Procter & Gamble Paper Products Co. | Wyoming | 66-0001 | Paper & Pulp Mill | VOC/NOX
42. Quebecor Printing Atglen Inc. | Chester | 15-0002 | Graphic Arts | VOC
43. Sartomer Company, Inc. | Chester | 15-0015 | Chemical Manufacturer | VOC
44. Silberline Manufacturing | Carbon | 54-0041 | Synthetic Materials | VOC
45. Smithkline Beecham Research Co. | Montgomery | 46-0031 | Pharmaceutical Manufacturer | NOX
46. Sullivan Graphics, Inc. | York | 67-2023 | Graphic Arts | VOC
47. Sun Company, Inc. (R&M) | Delaware | 23-0010 | Petroleum Transfer Station | VOC
48. Sun Company, Inc. (R&M) | Delaware | 23-0011 | Petroleum Transfer Station | VOC
49. Universal Packaging Corp. | Montgomery | 46-0156 | Graphic Arts | VOC
50. Zenith Products Corp. | Delaware | 23-0008 | Surface Coating | VOC
51. Budd Company | Philadelphia | 51-1564 | Industrial Boiler | NOX
52. Bellevue Cogeneration Plant | Philadelphia | 51-6513 | Industrial Boiler | NOX
53. MSC Prefinish Metals | Bucks | 09-0030 | Surface Coater | VOC/NOX
54. Temple University | Philadelphia | 51-8906 | Industrial Boiler—Medical Incinerator | NOX
55. Trigen-Schuylkill Station | Philadelphia | 51-4942 | Utility | NOX
56. Trigen-Edison Station | Philadelphia | 51-4902 | Utility | NOX

EPA is publishing this rule without prior proposal because we view this as a noncontroversial amendment and anticipate no adverse comment. However, in the “Proposed Rules” section of today's Federal Register, EPA is publishing a separate document that will serve as the proposal to approve the SIP revision if adverse comments are filed. This direct final rule will be effective on February 13, 2001 without further notice unless we receive adverse comment by January 16, 2001. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

III. Final Action

EPA is approving revisions to the Commonwealth of Pennsylvania's SIP submitted by the Department of Environmental protection which establish and require RACT for 56 major sources of NOX and VOC located in Pennsylvania.

IV. Administrative Requirements

A. General Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). For the same reason, this rule also does not significantly or uniquely affect the communities of tribal governments, as specified by Executive Order 13084 (63 FR 27655, May 10, 1998). This rule will not have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for 56 named sources.

C. Petitions for Judicial Review

Under section 307(b)(1) of the Clean Air Act, petitions for judicial review of this action must be filed in the United States Court of Appeals for the appropriate circuit by February 13, 2001. Filing a petition for reconsideration by the Administrator of this final rule does not affect the finality of this rule for the purposes of judicial review nor does it extend the time within which a petition for judicial review may be filed, and shall not postpone the effectiveness of such rule or action. This action approving Pennsylvania's source-specific RACT requirements for 56 sources may not be challenged later in proceedings to enforce its requirements. (See section 307(b)(2).)

List of Subjects in 40 CFR Part 52

Environmental protection, Air pollution control, Hydrocarbons, Incorporation by reference, Intergovernmental relations, Nitrogen dioxide, Ozone.

Editorial note. This document was received at the Office of the Federal Register on December 6, 2000.

Dated: March 23, 2000.
Bradley M. Campbell,
Regional Administrator, Region III.

40 CFR part 52 is amended as follows:

PART 52—[AMENDED]

1. The authority citation for Part 52 continues to read as follows:

Authority: 42 U.S.C. 7401 et seq.

Subpart NN—Pennsylvania

2. Section 52.2020 is amended by adding paragraph (c)(143) to read as follows:

§ 52.2020 Identification of plan.

* * * * *

(c) * * *

(143) Revisions to the Pennsylvania Regulations, Chapter 129.91 pertaining to VOC and NOX RACT, submitted by the Pennsylvania Department of Environmental Protection on September 20, 1995, December 8, 1995, January 10, 1996, March 21, 1996, April 16, 1996, May 2, 1996, June 10, 1996, September 13, 1996, January 21, 1997, July 2, 1997, November 4, 1997, December 31, 1997, March 24, 1998, April 20, 1998, May 29, 1998, July 24, 1998, December 7, 1998, February 2, 1999, March 3, 1999, April 9, 1999, and April 20, 1999.

(i) Incorporation by reference.

(A) Letters submitted by the Pennsylvania Department of Environmental Protection transmitting source-specific VOC and/or NOX RACT determinations, in the form of plan approvals, operating permits, or compliance permits, or supplementary information, on the following dates: September 20, 1995, December 8, 1995, January 10, 1996, March 21, 1996, April 16, 1996, May 2, 1996, June 10, 1996, September 13, 1996, January 21, 1997, July 2, 1997, November 4, 1997, December 31, 1997, March 24, 1998, April 20, 1998, May 29, 1998, July 24, 1998, December 7, 1998, February 2, 1999, March 3, 1999, April 9, 1999, and April 20, 1999.

(B) Plan approvals (PA), Operating permits (OP), and Compliance Permits (CP):

(1) Boeing Company, Defense and Space Group, Helicopters Division, CP-23-0009, issued 09/03/1997, except for the expiration date, the requirements of Conditions 5.B, 6.C, 7.C, 8.C, 9.D, 10.B, and 11.B, and any of their associated recordkeeping and reporting requirements.

(2) Delaware County Regional Water Quality Control Authority's Western Regional Treatment Plant (DELCORA WRTP), OP-23-0032, issued 03/12/1997, as revised on 05/16/1997, except for the expiration date and the requirements of Conditions 9, 12, 14, 15, 16, and any associated recordkeeping and reporting requirements.

(3) Delbar Products, Inc., OP-09-0025, issued 02/01/96, except for the expiration date and the requirements of Conditions 3, 4, 5, 6.A, 6.B, 6.C.1, 6.C.2, 8 and 9.

(4) Department of Public Welfare's Norristown State Hospital, OP-46-0060, issued 01/21/1998, except for the expiration date and Conditions 3, 4, 5, 8, 9, 14, 15, 16, 17, 18, 19, 20, 21, 22, 23, and 24.

(5) Dopaco, Inc., CP-15-0029, issued 03/06/1996, except for the expiration date and the requirements of Conditions 4, 5, 6, 7, 8, 9, 10.C, 10.D, 10.H.3, 10.H.4, 11, 12, 13, 14, 15, 16, and 17.

(6) Garlock, Inc., PA-09-0035, issued 03/12/1997, except for the expiration date and Conditions 2, 10, 13, 15.B-F.

(7) Interstate Brands Corporation, PLID 5811, effective 04/10/1995, except for Conditions 1.A(1), (2), (4) and (5), 2.B, 2.C, 7, 8, and 9. (Note: Interstate Brands Corporation acquired this facility through purchase of Continental Baking Company, which was the owner of the facility when the RACT permit was issued. Accordingly, Continental Baking Company is shown as the facility owner on the permit.)

(8) J.B. Slevin Company, Inc., OP-23-0013, issued 09/03/1996, except for the expiration date and the requirements of Conditions 4, 5.A. and 8, 9, and 10.

(9) Laclede Steel Company, OP-09-0023, issued 7/17/1995, except for the expiration date and requirements of Conditions 3 and 7.

(10) LNP Engineering Plastics, Inc., OP-15-0035, issued 10/31/97, except for the expiration date, Conditions 3, 4, 5, 6, 7 (as it relates to non-criteria pollutants), 10 (as it relates to keeping records required to show compliance with Condition 5), 12, 15, 16, and 21.

(11) Lukens Steel Company, OP-15-0010, issued 05/06/1999, except for the expiration date, Conditions 4, 5, 6, 7, 8, 9, 11, 12, 13, 14, 15, 16, 17, 18, 19, 20, 21, 22, 23, 24, 25, 26, 27, 28, 29, 30, 31, 32, 33, and 34. Permit Condition 3 lists units subject to RACT requirements. All of the listed units are subject to VOC RACT requirements, but only the C and D electric arc furnaces, the Drever Furnace, the NAB Furnaces, the nine batch heat treatment furnaces, the EMS boiler, the Soaking Pits and the ZIP line process are subject to NOX RACT requirements.

(12) Nabisco Biscuit Co., PLID 3201, effective 04/10/1995, except for Conditions 1.A(1), 1.A(3), 1.A(4), 1.A(5), 1.A(6), 2.B, 2.C, 7, 8, and 9.

(13) PECO Energy Company, Croydon Station, OP-09-0016A, issued 12/20/1996, except for the expiration date, Conditions 4, 5, 7(C), 7(D), 7(E) and 10.

(14) PECO Energy Company, Limerick Station, OP-46-0038, issued 7/25/1995, except for the expiration date, Conditions 4, 5, 8(B), 9(B), 10(A)(3), 10(C), and 11.

(15) PECO Energy Company, Fairless Works, OP-09-0066, issued 12/31/1998, as revised on 04/06/1999, except for the expiration date, Conditions 4, 5, 6, 7, and 8, the portion of Condition 10 pertaining to sulfur content of fuel oil, the provision of Condition 11 (B) pertaining to annual NOX emissions, the provisions in 11(C) regarding landfill gas and Condition No. 15.

(16) PECO Energy Company, West Conshohocken Plant, OP-46-0045A, issued 12/04/1997, except for the expiration date and the provisions of Conditions 3B, 3C, 3D, 4, 5, 6(B)(2), 7, 8, 9D, 9E, and 9F.

(17) Pennsylvania Electric Company (owner) and GPU Generation, Inc. (operator), Front Street Plant, 25-0041, issued 02/25/1999, except for Conditions 7, 8, 9, and 10.

(18) American Inks and Coatings Corporation, OP 15-0026A, issued 01/10/1997, except for the expiration date, all ton per year limitations, and Conditions 3, 4, 5, 7(A), 8(A), 8(C), 9, 11, 12, 13, and 14.

(19) Avery Dennison Corporation (Fasson Roll Division), OP 09-0001A, issued 10/02/1997, except for the expiration date, Conditions 3, 4, 5, 7, 8, 9(A)1, 9(A)2, 9(A)3, 9(A)4, 9(A)5, 9(A)7, 9(A)8, 9(A)9, 9(B), 9(C), 9(D), 10, 11, 12, 13, and 14.

(20) Cabot Performance Materials, OP 46-0037, issued 04/13/1999, except for the expiration date and Conditions 4, 5, 6, 7, 8, 9, 15(b), 15(c), 16, 17, 18, 19, 20, 21, 22, 23, and 24.

(21) Cleveland Steel Container Corporation, OP 09-0022, issued 09/30/1996, except for the expiration date, and the allowable ton-VOC/year limits in Condition 4, and Conditions 3, 6, and 8.

(22) CMS Gilbreth Packaging Systems, OP 09-0036, issued 01/07/1997, except for the expiration date and Conditions 3, 4, 19, 20, 21, 22, 23, 24, 25, 26, and 27.

(23) CMS Gilbreth Packaging Systems, OP 09-0037, issued 04/10/1997, except for the expiration date, Conditions 3, 4, 22, 23, 24, 25, 26, 27, 28, and 29.

(24) Congoleum Corporation, OP 23-0021, issued 12/31/1998, except for the expiration date and Conditions 3, 4, 5(A), 5(B), 5(D), 5(E), 6, 7(a), 8, 9, 10, 11, 12, 13, 14, 15, 16, 17, 18, 19, 20, 21, 22, 23, 24, 25, and 26.

(25) Epsilon Products Company, OP 23-0012, issued 02/15/1996, except for the expiration date and Conditions 3, 4(B), 4(C), 7, 9, 10, 12, 13, 14, and 15.

(26) Foamex International, Inc., OP 23-0006A, issued 09/30/1996, as revised on 3/30/1999, except for the expiration date and Conditions 3, 4, 5, 8, 9, 10, 11, 12, 13, and 14.

(27) Forms, Inc., Spectra Graphics, OP 46-0023, issued 11/09/1995, as revised on 03/25/1998, except for the expiration date, Conditions 4, the VOC lbs/hr limits in Condition 5 for both the heatset and nonheatset press materials, 6, 7, 9, 11 and 12.

(28) Global Packaging, Inc., OP 46-0026, issued 08/30/1996, as revised on 12/24/1997, except for the expiration date, Conditions 3, 4, 5, 6, the nitrogen oxide limits in Condition 7(B), 10, and 11. (Note: Pennsylvania issued the revised permit to Global Packaging, Inc. Global Packaging, Inc. acquired this facility through purchase of BG Packaging, Inc., which had owned the facility when the original RACT permit was issued. Accordingly, BG Packaging, Inc. is shown as the facility owner on the original permit.)

(29) Jefferson Smurfit Corporation (U.S.), OP 46-0041, issued 04/18/1997, except for the expiration date, Conditions 3, 4, 5, 15(B), 16, 17, 18, 19, 20, 21, and 22 and the record keeping and monitoring requirements of Condition No. 15(A) associated with Condition 4.

(30) Jefferson Smurfit Corporation, OP 46-0062, issued 07/15/1996, except for the expiration date and Conditions 3 and 5(F).

(31) Lonza, Inc., OP 46-0025, issued 04/22/1997, as revised on 06/16/1998, except for the expiration date, Conditions 3, 6, 7, 8, 9, 10, 11, 12, 13(B), 13(D) and 13(E).

(32) Markel Corporation, OP 46-0081, issued 04/09/1999, except for the expiration date and Conditions 3, 4, 5, 11, 19, 20, 21, 22, 23, 24, 25, 26, and 27.

(33) McCorquodale Security Cards, Inc., OP 15-0037, issued 09/03/1996, except for the expiration date and Conditions 3, 4, 5, 6, 7, 8, 9, 11, 15, 16, and 17.

(34) Mike-Rich, Inc., OP 09-0021, issued 12/20/1996, except for the expiration date, Conditions 3, 4, 5, 7, and the general conditions listed in Condition 8.

(35) Minnesota Mining and Manufacturing Co. (3M), CP 09-0005, issued 08/08/1996, except for the expiration date and Conditions 4, 5, 6, 7, 8, 9, 10, 11(C), 12 (C), 12(D), 13(A), 13(C), 13(D), 14, 15, 16, 17, 18, 19, 20, 21, and 22.

(36) MM Biogas Power LLC, OP 46-0067, issued 10/31/1997, except for the expiration date and Conditions 3, 4, 7, 9 (as it pertains to the Superior engine), 10, 11, 12, 13, 14, 15, 16, 17, 18, 19, 20 and 21.

(37) Norwood Industries, Inc., OP 15-0014A, issued 12/20/1996, as revised on 12/02/1999, except for the expiration date, Conditions 3, 4, 5, 6(A), 6(B), 6(C), 6(D)1, 6(D)2, 6(D)3, 6(D)5, 6(E), 6(F)1, 6(F)2, 6(F)3, 6(F)5, 6(F)6, 6(G), 7, 8(A), 8(C), 8(D), 8(F), 8(G), 8(H), 8(I), and 9.

(38) NVF Company, OP 15-0030, issued 04/13/1999, except for the expiration date and Conditions 3, 4, 5, 6, 8, 9, 10, 11, 12, 13, 14, 15, 16, 17, 18, 19, 20, 21, 22, 23, 24, 25, 26, and 27.

(39) Occidental Chemical Corporation, OP 46-0015, issued 11/07/1996, except for the expiration date and Conditions 4, 5, 6(A), the capacity factor in 6(B), 6(E), 7, 8(A), 8(C), 8(D)1, 8(D)2a, 8(D)2b, 8(D)2c, 8(D)2d, 8(D)5, 8(E), 9, 10, 11(B), 12.

(40) Philadelphia Newspapers, Incorporated, OP 46-0012, issued 08/30/1996, as revised on 03/15/2000, except for the expiration date, and Conditions 3, 4(A), 5, 9, and 11.

(41) Procter & Gamble Paper Products Company, OP 66-0001, issued 04/04/1997, except for the expiration date, and Conditions 3, 4, 6, 7, 8, 9, 10, 11, 14, 15, 17, 18, 19, 20, 21, and 22.

(42) Quebecor Printing Atglen, Inc., OP 15-0002, issued 12/10/1996 except for the expiration date and Conditions 3, 4(A) except as it relates to cleaning solvents, 4(B), 4(C), 5, 6, 7, 8(A), 8(B) and 8(D).

(43) Sartomer Company, Inc., OP 15-0015, issued 01/17/1996, as revised on 03/25/1998, except for the expiration date and Conditions 3, 4, 5, 8, 13, 14, 15(A), and 16.

(44) Silberline Manufacturing Company, Inc., OP 54-0041, issued 04/19/1999, except for the expiration date and Conditions 3, 4, 5, 6, 9, 12, 13, 14, 15, 16, 17, 18, 19, 20, and 21.

(45) SmithKline Beecham Research Company, OP 46-0031, issued 10/31/1997, as revised on 05/01/1998, except for the expiration date and Conditions 3, 4, 5(a) as it pertains to the Cleaver Brooks boiler rated at 31.4 MMbtu/hr., 6(b), and 6(c).

(46) Sullivan Graphics, Inc., OP 67-2023, issued 08/22/1995, except for the expiration date and Conditions 4, 5, 9(c), 9(d), 10, 19, 20, and 24.

(47) Sun Company, Inc. (R&M), OP 23-0010, issued 10/31/1996, except for the expiration date and Conditions 3, 4, 6, 7, 8 and 10.

(48) Sun Company, Inc. (R&M), OP 23-0011, issued 10/31/1996, except for the expiration date and Conditions 3, 4, 6 and 8.

(49) Universal Packaging Corporation, OP 46-0156, issued 04/08/1999, except for the expiration date, and Conditions 3, 4, 5, 9 and 11.

(50) Zenith Products Corporation, OP 23-0008, issued 04/07/1997, except for the expiration date, and Conditions 4, 6, 7, 8(A), 8(B), 9(B), 10, 11, and 12.

(51) Budd Company, PLID 51-1564, effective 12/28/1995, except for Conditions 7, 8 and 9.

(52) Bellevue Cogeneration Plant, PLID 06513, effective 4/10/1995, except for Conditions 1.A(2), 2.B, 4.B, 7, 8 and 9.

(53) MSC Pre Finish Metals, Inc., OP-09-0030, issued 11/7/1996, as revised on 03/31/1998, except for the expiration date and Conditions 3, 4, 5, 6.A, 6.B.1, 6.B.5, 6.B.9, 6.C, 6.D.1 (a, b, and e), 8.A, 8.B, 9, 10.E, and 11.

(54) Temple University, Health Sciences Center, PLID 8906, effective 5/27/1995, excluding Conditions 1.A(2), 2.B, 6, 7, and 8.

(55) Trigen—Schuylkill Station, PLID 04942, effective 5/29/1995, except for Conditions related to low NOX burners found at 1.B(1) and 2(A), the provision in Condition 3.A(1) limiting NOX emissions to 1646 tons per year, 4 (B), 7, 8, and 9.

(56) Trigen—Edison Station, PLID 4902, effective 5/29/1995, excluding portions of Condition 3.A.(1) limiting NOX emissions in tons per year and Conditions 7, 8, and 9.

(C) Letters from the Pennsylvania Department of Environmental Protection, dated 09/21/2000, and 10/20/2000, in which Pennsylvania provided supplementary information regarding many of the permits listed in i(B) above, and in which Pennsylvania specified the permit conditions, listed in i(B) above, which it did not wish to have incorporated into the Pennsylvania State Implementation Plan.

[FR Doc. 00-31463 Filed 12-14-00; 8:45 am]

BILLING CODE 6560-50-P